DEPARTMENT OF HOUSING AND URBAN DEVELOPMENT

[Docket No. FR-7092-N 21; OMB Control No.: 2502-0418]

30-Day Notice of Proposed Information Collection: Multifamily Insurance Benefits Claims Package

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: August 20, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, Clearance Officer, Paperwork Reduction Act Division, PRAD, Department of Housing and Urban Development, 451 7th Street SW, Room 8210, Washington, DC 20410; email at Anna.P.Guido@hud.gov, telephone (202) 402-5535. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A. The Federal Register notice that solicited public comment on the information collection for a period of 60 days was published on December 11, 2024 at 89 FR 99893.

A. Overview of Information Collection

Title of Information Collection: Multifamily Insurance Benefits Claims Package.

OMB Approval Number: 2502-0418.

Type of Request: Extension of a currently approved collection.

Form Number: HUD-2741; HUD-2742; HUD-2744-A; HUD-2744-B; HUD-2744-C; HUD-2744-D; HUD-2744-E; HUD-434; HUD-1044-D.

Description of the need for the information and proposed use: A lender with an insured multifamily mortgage pays an annual insurance premium to the Department. When and if the mortgage goes into default, the lender may elect to file a claim for FHA Multifamily insurance benefits with the Department. HUD needs this information to determine if FHA multifamily insurance claims submitted to HUD are accurate, valid and support payment.

Information collection | Number of respondents | Frequency of response | Responses per annum | Burden hours per response | Annual burden hours | Hourly cost per response | Annual cost
Businesses or other for-profit organizations
Statement of Taxes, HUD FORM-434 | 72 | 1 | 72 | 0.5 | 36 | 31.98 | 1,151.28
Fiscal Instructions for Filing for Multifamily Insurance Benefits, HUD FORM-2741 | 72 | 1 | 72 | 2.0 | 144 | 31.98 | 4,605.12
Fiscal Data in Support of Claim for Multifamily Mortgage, HUD FORM-2742 | 72 | 1 | 72 | 0.5 | 36 | 31.98 | 1,151.28
Allocation of Mortgagee Receipts and Disbursements—Schedule A, HUD FORM-2744-A | 72 | 1 | 72 | 1.25 | 90 | 31.98 | 2,878.20
Mortgagee Report of Project Collections—Schedule B, HUD FORM-2744-B | 72 | 1 | 72 | 0.75 | 54 | 31.98 | 1,726.92
Mortgagee Report of Project Disbursements—Schedule C, HUD FORM-2744-C | 72 | 1 | 72 | 0.5 | 36 | 31.98 | 1,151.28
Mortgagee Report of Other Disbursements—Schedule D, HUD FORM-2744-D | 72 | 1 | 72 | 0.25 | 18 | 31.98 | 575.64
Mortgagee Report of Special Escrow—Schedule E, HUD FORM-2744-E | 72 | 1 | 72 | 0.25 | 18 | 31.98 | 575.64
Multifamily Insurance Benefit Claim Payment Information in Support of Claim Treasury Financial Communication System for Mortgage Wiring Instructions., HUD FORM-1044-D | 72 | 1 | 72 | 0.5 | 36 | 31.98 | 1,151.28
Sub-Totals | 72 |  | 72 |  | 468 |  | 14,966.64
Local or Tribal Government
Statement of Taxes HUD FORM-434 | 38 | 1 | 38 | 0.5 | 19 | 31.98 | 607.62
Fiscal Instructions for Filing for Multifamily Insurance Benefits, HUD FORM-2741 | 38 | 1 | 38 | 2.0 | 76 | 31.98 | 2430.48
Fiscal Data in Support of Claim for Multifamily Mortgage Insurance Benefits, HUD FORM-2742 | 38 | 1 | 38 | 0.5 | 19 | 31.98 | 607.62
Allocation of Mortgagee Receipts and Disbursements—Schedule A, HUD FORM-2744-A | 38 | 1 | 38 | 1.25 | 47.50 | 31.98 | 1519.05
Mortgagee Report of Project Collections—Schedule B, HUD FORM-2744-B | 38 | 1 | 38 | 0.75 | 28.50 | 31.98 | 911.43
Mortgagee Report of Project Disbursements—Schedule C, HUD FORM-2744-C | 38 | 1 | 38 | 0.5 | 19 | 31.98 | 607.62
Mortgagee Report of Other Disbursements—Schedule D, HUD FORM-2744-D | 38 | 1 | 38 | 0.25 | 9.50 | 31.98 | 303.81
Mortgagee Report of Special Escrow—Schedule E, HUD FORM-2744-E | 38 | 1 | 38 | 0.25 | 9.50 | 31.98 | 303.81
Multifamily Insurance Benefit Claim Payment Information in Support of Claim Treasury Financial Communication System for Mortgage Wiring Instructions., HUD FORM-1044-D | 38 | 1 | 38 | 0.5 | 19 | 31.98 | 607.62
Sub-Totals | 38 |  | 38 |  | 247 |  | 7,899.06
Totals | 110 |  | 110 |  | 715 |  | 22,865.70

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department Clearance Officer, Office of Policy Development and Research, Chief Data Officer.

[FR Doc. 2025-13603 Filed 7-18-25; 8:45 am]

BILLING CODE 4210-67-P